Title 3—

The President

Proclamation 10624 of September 14, 2023

National POW/MIA Recognition Day, 2023

By the President of the United States of America

A Proclamation

Unbreaking and unbending in their devotion to duty, our service members have sacrificed everything to keep our people and our democracy safe. While more than 81,000 of these brave service members still remain missing and unaccounted for, they are not—and will never be—forgotten. On National POW/MIA Recognition Day, we honor the devotion and courage of all those missing and unaccounted for, renew our commitments to their families, and promise to never cease in our efforts to bring them home.

Above the White House and the United States Capitol—and at military bases, memorials, cemeteries, and homes across America—we fly the POW/MIA flag, and we remember what it represents: the thousands of spouses, parents, sons, daughters, and loved ones who served and sacrificed for our freedom and future; loved ones who mourn with unanswered questions still in their hearts; and the debt of gratitude we owe them that we can never fully repay. We cannot and must not forget our obligation to our unreturned heroes—no matter how long it takes.

Earlier this year, I had the honor of announcing that after over seven decades of being unaccounted for, United States Army Corporal Luther H. Story—a Medal of Honor recipient who gave his life fighting in the Korean War—was no longer missing. His remains were identified, returned to his family, and laid to rest near his Georgia hometown with the highest honor he deserves. His story is just one powerful reminder that, just as our service members have kept ultimate faith to our country, we must do everything we can to keep faith for them.

On this day, may we recommit to our search efforts for all those missing and unaccounted for, as well as our support for their families. May we honor the remarkable bravery, sacrifice, and commitment to service of former prisoners of war. And may we continue to keep the flame of liberty burning bright and continue working toward a more perfect Union for which our service members sacrifice so much.

NOW, THEREFORE, I, JOSEPH R. BIDEN JR., President of the United States of America, by virtue of the authority vested in me by the Constitution and laws of the United States, do hereby proclaim September 15, 2023, as National POW/MIA Recognition Day. Let all who read this know that America remains grateful to our heroes held in the worst imaginable conditions as prisoners of war. Additionally, I encourage my fellow citizens across the Nation to reflect on today and let us not forget those heroes who never returned home from the battlefields around the world or their families who are still waiting for answers. I call upon Federal, State, and local government officials and private organizations to observe this day with appropriate ceremonies and activities.

IN WITNESS WHEREOF, I have hereunto set my hand this fourteenth day of September, in the year of our Lord two thousand twenty-three, and of the Independence of the United States of America the two hundred and forty-eighth.

[FR Doc. 2023-20486

Filed 9-19-23; 8:45 am]

Billing code 3395-F3-P